DEPARTMENT OF COMMERCE

International Trade Administration

Notice of Determination with Respect to Modification of Tariff Rate Quotas on the Import of Certain Worsted Wool Fabrics

AGENCY: Department of Commerce, International Trade Administration.

ACTION: The Department has determined that no modification be made to the 2004 tariff rate quotas.

SUMMARY: The Department of Commerce has determined that the 2004 limitation on the quantity of imports of worsted wool fabrics that may be imported under the tariff rate quotas established by the Trade and Development Act of 2000 (TDA 2000) as amended by the Trade Act of 2002 should not be modified.

FOR FURTHER INFORMATION CONTACT: Sergio Botero, Office of Textiles and Apparel, U.S. Department of Commerce, (202) 482-4058.

SUPPLEMENTARY INFORMATION:

Background

Title V of the TDA 2000 created two tariff rate quotas (TRQs), providing for temporary reductions for three years in the import duties on limited quantities of two categories of worsted wool fabrics suitable for use in making suits, suit-type jackets, or trousers: (1) for worsted wool fabric with average fiber diameters greater than 18.5 microns (Harmonized Tariff Schedule of the United States (HTS) heading 9902.51.11); and (2) for worsted wool fabric with average fiber diameters of 18.5 microns or less (HTS heading 9902.51.12).

On August 6, 2002, President Bush signed into law the Trade Act of 2002, which includes several amendments to Title V of the TDA 2000. These include the extension of the program through 2005; the reduction of the in-quota duty rate on HTS 9902.51.12 (average fiber diameter 18.5 microns or less) from 6 percent to zero, effective for goods entered, or withdrawn from warehouse for consumption, on or after January 1, 2002; and an increase in the 2003 through 2005 TRQ levels to 3,500,000 square meters for HTS 9902.51.12 and to 4,500,000 square meters for HTS 9902.51.11. Both of these limitations may be modified by the President, not to exceed 1,000,000 square meters per year for each tariff rate quota.

The TDA 2000 requires the annual consideration of requests by U.S. manufacturers of men's or boys' worsted wool suits, suit-type jackets and trousers for modification of the limitation on the quantity of fabric that may be imported under the tariff rate quotas, and grants the President the authority to proclaim modifications to the limitations. In determining whether to modify the limitations, specified U.S. market conditions with respect to worsted wool fabric and worsted wool apparel must be considered.

On January 22, 2001, the Department published regulations establishing procedures for considering requests for modification of the limitations (15 CFR 340) in the Federal Register. (See 66 FR 6459.) The regulations provide that not more than 30 days following the close of the comment period, the Department will determine whether the limitations on the quantity of imports under the tariff rate quotas should be modified and recommend to the President that appropriate modifications be made.

On September 26, 2003, the Department published a notice in the Federal Register soliciting requests for modification of the 2004 tariff rate quota limitations. (See 68 FR 55591.) The Department received one such request, from Hartmarx Corporation. The request is for the maximum increase (1,000,000 square meters) in each of the two tariff rate quota limitations (HTS 9902.51.11 and HTS 9902.51.12).

On November 4, 2003, the Department solicited comments on the request for a period of 20 days. (See 68 FR 62432.) The Department received comments from seven companies/trade associations. One of the respondents, Southwick Clothing LLC, supported the request for modification, and six of the respondents, Burlington Industries, Cleyn & Tinker, the National Textile Association, Victor Forstmann, Inc., Warren of Stafford, and the Association of Georgia's Textile, Carpet, and Consumer Products Manufacturers, opposed the request for modification.

After reviewing the request, the comments received, and other information obtained, including a report prepared by the U.S. International Trade Commission, and after considering the specific market conditions set forth in the TDA 2000, the Department determined that the 2004 limitations on the quantity of imports of worsted wool fabrics that may be imported subject to the tariff rate quotas established by the TDA 2000 as amended by the Trade Act of 2002 should not be modified.

Dated: December 24, 2003.
D. Michael Hutchinson,
Acting Deputy Assistant Secretary for Textiles, Apparel and Consumer Goods Industries

[FR Doc. 03-32163 Filed 12-30-03; 8:45 am]

BILLING CODE 3510-DR-S